DEPARTMENT OF HOMELAND SECURITY

Office of the Secretary

[Docket No. DHS-2012-0076]

Privacy Act of 1974; Department of Homeland/U.S. Customs and Border Protection—002 Global Enrollment System (GES), System of Records

AGENCY: Department of Homeland Security, Privacy Office.

ACTION: Notice of Privacy Act System of Records.

SUMMARY: In accordance with the Privacy Act of 1974, as amended, the Department of Homeland Security proposes to update and reissue the Department of Homeland Security system of records titled, “Department of Homeland Security/U.S. Customs and Border Protection—002 Global Enrollment System” system of records. This system of records allows the Department of Homeland Security/U.S. Customs and Border Protection to collect and maintain records on individuals who voluntarily provide personally identifiable information to U.S. Customs and Border Protection in return for enrollment in a program that will make them eligible for expedited processing at designated U.S. border ports of entry, including all trusted traveler and registered traveler programs. This system of records notice is being re-published to update the categories of records, authorities, purposes, routine uses, retrievability, retention and disposal, notification procedures, record sources, and exemptions sections of the system. Additionally, this notice includes non-substantive changes to simplify the formatting and text of the previously published notice. The Global Enrollment System will now maintain law enforcement information as part of the vetting results, therefore the Department of Homeland Security is issuing a Notice of Proposed Rulemaking, to exempt this system of records from certain provisions of the Privacy Act of 1974, as amended, elsewhere in the Federal Register. This updated system will be included in the Department of Homeland Security's inventory of record systems.

DATES: Submit comments on or before February 15, 2013. This updated system will be effective February 15, 2013.

ADDRESSES: You may submit comments, identified by docket number DHS-2012-0076 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Laurence Castelli, (202) 325-0280, CBP Privacy Officer, U.S. Customs and Border Protection, Mint Annex, 799 Ninth Street NW., Washington, DC 20229. For privacy questions, please contact: Jonathan R. Cantor, (202) 343-1717, Acting Chief Privacy Officer, Privacy Office, Department of Homeland Security, Washington, DC 20528.

SUPPLEMENTARY INFORMATION:

I. Background

In accordance with the Privacy Act of 1974, 5 U.S.C. 552a, the Department of Homeland Security (DHS) U.S. Customs and Border Protection (CBP) proposes to update and reissue a current DHS system of records titled, “DHS/CBP-002 Global Enrollment System (GES).”

Global Entry (GE) is the DHS/CBP program that enables CBP to expedite the inspection and security process for lower risk travelers and allows more scrutiny for those travelers who present an unknown risk. GE, previously a pilot program, is now a permanent trusted traveler program (77 FR 5681 (Feb. 6, 2012)). Under GE, expedited processing into the United States and certain foreign countries will be expanded through a growing number of participating U.S. and foreign international airports and foreign partnerships. Through such partnerships, U.S. citizens and citizens of certain foreign countries will be able to apply for expedited processing at their respective airports.

CBP has signed a number of joint statements with foreign partners that provide the basic framework for allowing U.S. citizens and citizens of the applicable foreign countries to apply for expedited processing at their respective airports. The general purpose of the joint statement is to offer expedited processing to U.S. citizens and the citizens of the foreign country that is party to that joint statement, based on a mutually determined set of vetting criteria and standards. CBP continues to work with government border authorities in various countries to create this growing international network in which, once individuals are screened and deemed trusted by the authorities in their own country, the other country in the alliance will accept them in their respective national trusted traveler programs.

Depending on the nature of the agreement with the foreign partner, DHS/CBP will maintain and share different personally identifiable information. In certain instances the joint statements commit to allowing citizens of foreign countries to apply for GE after the appropriate Interconnectivity Service Agreement (ISA) has been implemented. In other instances, the joint statements commit to sharing information about citizens who apply to be members of both countries' trusted traveler program after the appropriate ISA has been implemented. As part of the procedures for implementing a joint statement and adding foreign partners to GE, CBP and each foreign partner are executing parallel protocols that incorporate privacy protections. A more in-depth discussion of the arrangements by country is made available in DHS/CBP/PIA—002(b) GES Privacy Impact Assessment and Appendix A “CBP Global Entry Expansion: Joint Statements,” which is being published in conjunction with this system of records and will be updated with relevant information.

In addition to new foreign partners, CBP has consolidated the registered traveler programs under GES to include the Small Vessel Reporting System (SVRS) and the Decal and Transponder Online Procurement System (DTOPS). SVRS, as an enhancement to the Local Boater Option (LBO) pilot program, allows individuals with advance submission and CBP approval of float plans to use a designated telephone line to notify a CBP officer of their arrival to the United States. DTOPS is a registered traveler program that allows individuals to purchase, renew, or transfer user fees related to the transponders/Radio Frequency Identification (RFID) tags for their commercial vehicles or to the decals for their private aircraft or vessels in advance of crossing a U.S. border.

This system of records notice is being re-published to update the categories of records, authorities, purposes, routine uses, retrievability, retention and disposal, notification procedures, record sources, and Privacy Act exemptions for this system of records. Specifically, DHS is updating the category of records to clarify that GES maintains limited law enforcement information, consisting of the case number references to law enforcement databases used to support or deny the membership decision for GES trusted traveler programs, as well as the membership decision for trusted traveler programs with foreign partners. These results were previously covered by the DHS/CBP—011 TECS SORN (73 FR 77778 (Dec. 19, 2008.)) In cases when the applicant has opted to share information with a foreign government trusted traveler program, DHS/CBP is also retaining other foreign governments' decisions either to approve or deny an application, pursuant to the applicable joint statements.

The authority for GES derives from CBP's mandate to secure the borders of the United States, and to facilitate legitimate trade and travel. The statutes that permit and define GES include:

• Section 7208 of the Intelligence Reform and Terrorism Prevention Act of 2004 (IRTPA), as amended, 8 U.S.C. 1365b(k);

• Section 215 of the Immigration and Nationality Act, as amended, 8 U.S.C. 1185;

• Section 402 of the Homeland Security Act of 2002, as amended, 6 U.S.C. 202;

• Section 404 of the Enhanced Border Security and Visa Reform Act of 2002, 8 U.S.C. 1753; and

• Section 433 of the Tariff Act of 1930, as amended, 19 U.S.C. 1433.

The Regulations that permit and define GES include Parts 103 and 235 of Title 8 of the Code of Federal Regulations. See, especially, 8 CFR 103.2, 103.7, 103.16, 235.1, 235.2, 235.7, and 235.12. Pursuant to the Independent Offices Appropriations Act of 1952, 31 U.S.C. 9701, individuals seeking to enroll in trusted traveler or registered traveler programs must pay a fee when they apply or renew their membership. See 8 CFR 103.7(b)(1)(ii)(M).

The purposes of GES have been simplified to reflect that this system collects information, in advance, from recurring travelers so that DHS and CBP can assess applicants' eligibility for enrollment in a GES-supported trusted traveler and registered traveler programs.

DHS changed the order of routine uses to be consistent with its practice across all DHS SORNs and for ease of use by DHS personnel. This change affects the following uses, which were not substantially changed: Former routine use A is now routine use I; former routine use B is now routine use G; former routine use C is now routine use B; former routine use D is now routine use C; former routine use E is now routine use A; and former routine use G is now routine use D.

This SORN update includes the following substantive changes to routine uses: In routine use F, the sentence has been added, “Individuals provided information under this routine use are subject to the same Privacy Act requirements and limitations on disclosure as are applicable to DHS officers and employees.” In routine use G, reference to “organizations that are lawfully engaged in collecting intelligence [* * *] to carry out intelligence responsibilities” has been removed because of redundancy. Routine use H has been added to provide additional transparency on the sharing with foreign governments for trusted traveler programs and only at the behest of the individual. Routine use L has been added to allow the Department to share information with the public when the interests of the public outweigh those of the individual and only after approval by the DHS Chief Privacy Officer in consultation with counsel.

Sharing GES information with partnering foreign countries is consistent with the routine uses proposed in this System of Records Notice (SORN), which allows for disclosure to foreign government agencies to elicit information necessary to make decisions on applications. Pursuant to CBP's reciprocal joint statements, CBP will share biographic GE application data and vetting results in the form of a “pass/fail” transmission of U.S. citizens with these foreign governments only upon receiving the same type of data from those governments on their citizens who are applying for expedited processing into the United States. Because of these international information sharing relationships, CBP is able to make well-informed decisions on GE applications of citizens from a growing number of countries.

The retrievability section has been updated to reflect that records may be retrieved by any of the personal identifiers listed in the categories of records.

The retention and disposal section has been updated to reflect that all GES data is retained for the duration of an individual's active membership plus three years after an individual's membership is no longer active, either as a result of expiration without renewal at the end of a five-year term, as a result of abandonment, or as a result of CBP termination.

The notification procedures section has been updated to provide notice that individuals may view and edit their information through their online accounts, as well as through the standard procedures under the Freedom of Information Act and Privacy Act.

The record source categories have been updated to clarify the records obtained from the individual and background checks of external law enforcement systems, as well as providing notice that GES collects from membership determinations about trusted traveler applicants from partnering foreign countries.

Participation in these programs is entirely voluntary. Joint Statements with foreign partners establish that each country's use of GES information for vetting will be consistent with applicable domestic laws and policies. Participants should be aware that when they submit their information to a foreign country, or agree to share their information with a foreign partner, the foreign country uses, maintains, retains, or disseminates their information in accordance with that foreign country's laws and privacy protections.

Consistent with DHS' information sharing mission, information stored in GES may be shared with other DHS components whose personnel have a need to know the information to carry out their national security, law enforcement, immigration, intelligence, or other homeland security functions. In addition, information may be shared with appropriate federal, state, local, tribal, territorial, foreign, or international government agencies consistent with the routine uses set forth in this system of records notice.

DHS/CBP is simultaneously issuing a notice of proposed rulemaking to exempt portions of the DHS/CBP—002 GES SORN from the Privacy Act requirements. Pursuant to 5 U.S.C. 552a(j)(2) of the Privacy Act, law enforcement related records, including the pointer information to other law enforcement databases that support the DHS/CBP membership decision, and the law enforcement risk assessment worksheet that have been created during the background check and vetting process, are exempt from 5 U.S.C. 552a(c)(3) and (4); (d); (e)(1), (e)(2), (e)(3), (e)(4)(G), (e)(4)(H), (e)(4)(I), (e)(5) and (e)(8); (f); and (g)(1). Pursuant to 5 U.S.C. 552a(k)(2), records created during the background check and vetting process are exempt from the following provisions of the Privacy Act: 5 U.S.C. 552a(c)(3); (d); (e)(1), (e)(4)(G), (e)(4)(H), (e)(4)(I); and (f). In addition, when a record contains information from other exempt systems of records, DHS/CBP will claim the same exemptions for that record as are claimed for the original systems of records, and will claim any additional exemptions that this notice delineates.

CBP will not assert any exemptions with regard to accessing or amending an individual's application data in a trusted or registered traveler program and/or final membership determination in the trusted traveler programs. However, this data may be shared with law enforcement and/or intelligence agencies pursuant to the routine uses identified in the GES SORN. The Privacy Act requires that DHS maintain an accounting of such disclosures made pursuant to all routine uses. Disclosing the fact that a law enforcement and/or intelligence agency has sought particular records may affect ongoing law enforcement activity. As such, pursuant to 5 U.S.C. 552a(j)(2) and (k)(2), DHS will claim an exemption from (c)(3), (e)(8), and (g)(1) of the Privacy Act, as is necessary and appropriate to protect this information. This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/CBP—002 Global Enrollment System (GES).

In accordance with 5 U.S.C. 552a(r), DHS has provided a report of this system of records to the Office of Management and Budget and to Congress.

System of Records

Department of Homeland Security (DHS)/U.S. Customs and Border Protection (CBP)—002.

System name:

DHS DHS/CBP—002 Global Enrollment System (GES).

Security classification:

Unclassified, Sensitive, For Official Use Only, Law Enforcement-Sensitive.

System location:

Records are maintained at the CBP Headquarters in Washington, DC and field offices and maintained IT system named the Global Enrollment Systems.

Categories of individuals covered by the system:

Individuals who apply to use any form of automated or other expedited inspection for verifying eligibility to cross the border into the United States.

Categories of records in the system:

GES collects the following information on trusted travelers:

Biographic application data, including:

• Full name;

• Alias(es);

• Date of birth;

• Place of birth;

• Language preference;

• Gender;

• Current and former addresses;

• Telephone numbers;

• Country of citizenship;

• Alien registration number (if applicable);

• Employment history (if available);

• PASS ID or Trusted Traveler membership number;

• Countries visited in the last five years;

• Criminal history (provided by applicant);

• Parental or Legal Guardian permission (if 18 years or younger);

• Driver's license number;

• Issuing state or province of the applicant's Driver's License;

• Global Online Enrollment System (GOES) user name and password (password is maintained in an encrypted format); and

• Answers to security questions to reset password.

Vehicle or Vessel information, as appropriate, including:

• Flag and home port (where the vessel is foreign flagged);

• Name, registration number, and registration issuing state or province of the applicant's vessel;

• Make and model, year, color, VIN number, and license plate number of the vehicle; and

• Owner name, gender, and date of birth.

Biometric data, including:

• Fingerprints (collected and stored through DHS/USVISIT-0012 DHS Automated Biometric Identification System (IDENT) for future identity verification);

• Fingerprint Identification Number (FIN);

• Height;

• Eye color; and

• Facial photographs.

Information added by DHS/CBP:

• Pointer information to other law enforcement databases that support the DHS/CBP membership decision;

• Law Enforcement risk assessment worksheet;

• Pay.gov tracking number;

• GE membership decision in the form of a “pass/fail;” and

• Foreign government membership decisions in the form of a “pass/fail.”

The following information is collected on SVRS registered travelers:

• Full name;

• Gender;

• Date of birth;

• Place of birth;

• Country of citizenship;

• Address;

• Contact telephone number;

• Alternate telephone number;

• Contact email address;

• Password;

• Document type & number (e.g. U.S. Passport, Permanent Resident Card, Birth Certificate, etc.), place of issue, and expiration date of document; and

• Vessel information including registration number, hull ID number, decal number, registered name, location where vessel is registered, and vessel description (e.g., length, type, manufacturer, model, year, hull colors, etc.).

The following information is collected about DTOPS registered travelers:

• Account name;

• Physical address;

• Shipping address;

• Pay.gov tracking number;

• FAST ID, if the conveyance's owner is C-TPAT/FAST approved;

• Conveyance model year;

• Conveyance manufacturer name;

• Conveyance identification numbers and information, which are specific to the type of conveyance (e.g., local registration number, an aircraft's tail number, Coast Guard ID number, vessel name);

• Contact name;

• Contact telephone number; and

• Contact email address.

Authority for Maintenance of the System:

Section 7208 of the Intelligence Reform and Terrorism Prevention Act of 2004 (IRTPA), as amended, 8 U.S.C. 1365b(k); Section 215 of the Immigration and Nationality Act, as amended, 8 U.S.C. 1185; Section 402 of the Homeland Security Act of 2002, as amended, 6 U.S.C. 202; Section 404 of the Enhanced Border Security and Visa Reform Act of 2002, 8 U.S.C. 1753; and Section 433 of the Tariff Act of 1930, as amended, 19 U.S.C. 1433; 31 U.S.C. 9701; Parts 103 and 235 of Title 8 of the Code of Federal Regulations (See, especially, 8 CFR 103.2, 103.7, 103.16, 235.1, 235.2, 235.7, and 235.12).

Purpose(s):

The purpose of this system is to assess on an ongoing basis applicants' eligibility for enrollment in DHS/CBP GES-supported trusted traveler and/or registered traveler programs.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ), including U.S. Attorney Offices, or other federal agency conducting litigation or in proceedings before any court, adjudicative or administrative body, when it is relevant or necessary to the litigation and one of the following is a party to the litigation or has an interest in such litigation:

1. DHS or any component thereof;

2. Any employee or former employee of DHS in his/her official capacity;

3. Any employee or former employee of DHS in his/her individual capacity where DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS' efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To foreign governments, at the request of the individual, for the purpose of applying to that country's trusted traveler program.

I. To an appropriate federal, state, tribal, local, international, or foreign law enforcement agency for the purpose of determining an individual's eligibility for membership in a trusted traveler or registered traveler program.

J. To federal and foreign government intelligence or counterterrorism agencies or components where DHS becomes aware of an indication of a threat or potential threat to national or international security, or to assist in anti-terrorism efforts.

K. To an organization or person in either the public or private sector, either foreign or domestic, where there is a reason to believe that the recipient is or could become the target of a particular terrorist activity or conspiracy, or where the information is relevant to the protection of life, property, or other vital interests of a person.

L. To the news media and the public, with the approval of the Chief Privacy Officer in consultation with counsel, when there exists a legitimate public interest in the disclosure of the information or when disclosure is necessary to preserve confidence in the integrity of DHS or is necessary to demonstrate the accountability of DHS' officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records may be stored on magnetic disc, tape, and digital media.

Retrievability:

Records may be retrieved by any of the personal identifiers listed in the categories of records above.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

CBP is proposing to NARA the following retention: All GES data is retained for the duration of an individual's active membership plus three years after an individual's membership is no longer active, either as a result of expiration without renewal at the end of a five year term, as a result of abandonment, or as a result of CBP termination.

System Manager and address:

Trusted Traveler Program Manager, Office of Field Operations, U.S. Customs and Border Protection, and Director, Passenger Systems Program Office, Office of Information and Technology, 1300 Pennsylvania Ave. NW., Washington, DC 20229.

Notification procedure:

Individuals may gain access to information on themselves in GES by directly logging into GOES. Certain information may be amended directly in the system by the individual such as contact information; however, other information that was used to determine eligibility, such as date of birth or gender, may not be changed without contacting DHS/CBP directly. The Secretary of Homeland Security has exempted portions of this system from the notification, access, and amendment procedures of the Privacy Act because it is a law enforcement system. However, DHS/CBP will consider individual requests to determine whether or not information may be released. Thus, individuals seeking notification of and access to any record contained in this system of records, or seeking to contest its content, may submit a request in writing to the Headquarters or CBP FOIA Officer, whose contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records; and

If your request is seeking records pertaining to another living individual, you must include a statement from that individual certifying his/her agreement for you to access his/her records.

Without the above information, the component(s) may not be able to conduct an effective search, and your request may be denied due to lack of specificity or lack of compliance with applicable regulations.

Record access procedures:

See “Notification procedure” above.

Contesting record procedures:

See “Notification procedure” above.

Record source categories:

Records in GES are obtained from the individual and from external law enforcement systems. The main database checked during the vetting process, before individuals will be enrolled in any trusted traveler program, is TECS, which contains historical and enforcement data on travelers, and provides a gateway to other sources of data. These other sources include the Terrorist Screening Database, FBI criminal history, and National Crime and Information Center outstanding wants/warrants, vehicle and driver's license-related data contained in the International Justice and Public Safety Network's Nlets system, and Department of State alien records, lookouts, and status indicators. Vetting results are also based on checks of the FBI's Integrated Automated Fingerprint Identification System for criminal history and IDENT for immigration related records. Trusted traveler applicants from partnering foreign countries will have membership determinations in GES from their home country's government.

Exemptions claimed for the system:

The Secretary of Homeland Security, pursuant to 5 U.S.C. 552a(j)(2) has exempted the law enforcement related records, including the pointer information to other law enforcement databases that support the DHS/CBP membership decision, and the law enforcement risk assessment worksheet that have been created during the background check and vetting process, from the following provisions of the Privacy Act: 5 U.S.C. 552a(c)(3) and (4); (d); (e)(1), (e)(2), (e)(3), (e)(4)(G), (e)(4)(H), (e)(4)(I), (e)(5) and (e)(8); (f); and (g)(1). Additionally, the Secretary of Homeland Security, pursuant to 5 U.S.C. 552a(k)(2), has exempted records created during the background check and vetting process from the following provisions of the Privacy Act: 5 U.S.C. 552a(c)(3); (d); (e)(1), (e)(4)(G), (e)(4)(H),(e)(4)(I); and (f). In addition, when a record contains information from other exempt systems of records, DHS/CBP will claim the same exemptions for that record as are claimed for the original systems of records, and will claim any additional exemptions that this notice delineates.

CBP will not assert any exemptions with regard to accessing or amending an individual's application data in a trusted or registered traveler program and/or final membership determination in the trusted traveler programs. However, this data may be shared with law enforcement and/or intelligence agencies pursuant to the routine uses identified in the GES SORN. The Privacy Act requires DHS maintain an accounting of such disclosures made pursuant to all routine uses. Disclosing the fact that a law enforcement and/or intelligence agency has sought particular records may affect ongoing law enforcement activity. As such, pursuant to 5 U.S.C. 552a (j)(2) and (k)(2), DHS will claim an exemption from (c)(3), (e)(8), and (g)(1) of the Privacy Act, as is necessary and appropriate to protect this information.

Dated: December 31, 2012.
Jonathan R. Cantor,
Acting Chief Privacy Officer, Department of Homeland Security.

[FR Doc. 2013-00804 Filed 1-15-13; 8:45 am]

BILLING CODE 9111-14-P